DEPARTMENT OF ENERGY

Federal Energy Regulatory Commission

[Docket No. RP00-378-000]

Texas Gas Transmission Corporation; Notice of Proposed Changes in FERC Gas Tariff

July 7, 2000.

Take notice that on June 30, 2000, Texas Gas Transmission Corporation (Texas Gas) tendered for filing to become part its FERC Gas Tariff, First Revised Volume No. 1, the following revised tariff sheets, with an effective date of August 1, 2000:

2 Rev Thirty-third Revised Sheet No. 10

2 Rev Sixteenth Revised Sheet No. 10A

2 Rev Sub Original Sheet No. 10A.01

2 Rev Sub Original Sheet No. 10A.02

1 Rev Twenty-ninth Revised Sheet No. 11

2 Rev Seventeenth Revised Sheet No. 11B

Texas Gas states that this filing reflects the termination of the Docket No. RP97-344 Miscellaneous Revenue Credit originally filed in compliance with Article III of Texas Gas's Stipulation and Agreement in Docket No. RP97-344. The termination of the Docket No. RP97-344 Revenue Credit increases the daily demand rates for Rate Schedules NNS, SNS, and FT by $0.0010 and increases SGT rates by $0.0020.

Texas Gas states that copies of the revised tariff sheets are being mailed to Texas Gas's jurisdictional customers and interested state commissions.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-17714 Filed 7-12-00; 8:45 am]

BILLING CODE 6717-01-M